INTERNATIONAL TRADE COMMISSION

[USITC SE-18-035]

Government in the Sunshine Act Meeting Notice

Agency Holding the Meeting: United States International Trade Commission.

TIME AND DATE: August 3, 2018 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-608 and 731-TA-1420 (Preliminary) (Steel Racks from China). The Commission is currently scheduled to complete and file its determinations on August 6, 2018; views of the Commission are currently scheduled to be completed and filed on August 13, 2018.

5. Vote on Inv. Nos. 701-TA-583 and 731-TA-1381 (Final) (Cast Iron Soil Pipe Fittings from China). The Commission is currently scheduled to complete and file its determinations and views of the Commission by August 20, 2018.

6. Outstanding action jackets: None.

In accordance with Commission policy, subject matter listed above, not disposed of at the scheduled meeting, may be carried over to the agenda of the following meeting.

By order of the Commission.
Issued: July 27, 2018.
William Bishop,
Supervisory Hearings and Information Officer.

[FR Doc. 2018-16552 Filed 7-30-18; 11:15 am]

BILLING CODE 7020-02-P